ENVIRONMENTAL PROTECTION AGENCY

[FRL-7569-5]

Science Advisory Board Staff Office; Advisory Council on Clean Air Compliance Analysis; Notification of Upcoming Public Teleconferences for Its Subcommittees and Special Panel and a Public Meeting for Its Special Panel and Air Quality Modeling Subcommittee

AGENCY: Environmental Protection Agency (EPA).

ACTION: Notice.

SUMMARY: The EPA Science Advisory Board Staff Office is announcing a public meeting and a public teleconference of the Advisory Council on Clean Air Compliance Analysis Special Council Panel for the Review of the Third 812 Analysis (Council Special Panel). It is also announcing a public meeting and a public teleconference of the Council's Air Quality Modeling Subcommittee and a public teleconference for the Council's Health Effects Subcommittee.

DATES: October 15, 2003. A public teleconference for the Health Effects Subcommittee (HES) will be held from 11 a.m. to 12:30 p.m. (Eastern Time).

October 23, 2003. A public teleconference call meeting for the Council Special Panel will be held from 11 a.m. to 12:30 p.m. (Eastern Time).

October 24, 2003. A public teleconference call meeting for the Air Quality Modeling Subcommittee (AQMS) will be held from 11 a.m. to 12:30 p.m. (Eastern Time).

November 5-6, 2003. A public meeting for the Council Special Panel will be held from 8:30 a.m. to 6 p.m. November 5, 2003 and from 8:30 a.m.to 5 p.m on November 6, 2003 (Eastern Time).

November 7, 2003. A public meeting for the AQMS will be held from 8:30 a.m. to 5 p.m on November 7, 2003 (Eastern Time).

ADDRESSES: The meeting location for the November 5-6, 2003 meeting of the Council Special Panel and for the November 6-7, 2003 meeting of the AQMS will be in Washington, DC. The meeting location will be announced on the SAB website, http://www.epa/sab in advance of the meeting. Participation in the teleconference meetings will be by teleconference only.

FOR FURTHER INFORMATION CONTACT: Members of the public who wish to obtain the call-in number and access code to participate in the teleconference meeting may contact Ms. Sandra Friedman, EPA Science Advisory Board Staff Office, at telephone/voice mail: (202) 564-2526; or via e-mail at: friedman.sandra@epa.gov, or Ms. Delores Darden, EPA Science Advisory Board Staff Office at telephone/voice mail: (202) 564-2282; or via e-mail at darden.delores@epa.gov. Any member of the public wishing further information regarding the Council Special Panel or the Council's Subcommittees may contact Dr. Angela Nugent, Designated Federal Officer (DFO), U.S. EPA Science Advisory Board (1400A), 1200 Pennsylvania Avenue NW., Washington, DC 20460; by telephone/voice mail at (202) 564-4562; or via e-mail at nugent.angela@epa.gov. General information about the SAB can be found in the SAB web site at http://www.epa.gov/sab.

SUPPLEMENTARY INFORMATION:

Background

Pursuant to the Federal Advisory Committee Act, Public Law 92-463, Notice is given that the Council Special Panel and the AQMS will each hold a public meeting and the HES will hold a public teleconference call, as described above, to advise the Agency on its plan to develop the third in a series of statutorily mandated comprehensive analyses of the total costs and benefits of programs implemented pursuant to the Clean Air Act.

Background on the Council Special Panel, the AQMS, and this advisory project was provided in a Federal Register notice published on February 14, 2003 (68 FR 7531-7534).

The Council Special Panel and the Council subcommittees will be providing advice on the review document, “Benefits and Costs of the Clean Air Act 1990-2020; Revised Analytical Plan for EPA's Second Prospective Analysis” currently found at the following website, maintained by EPA's Office of Air and Radiation at: http://www.epa.gov/oar/sect812/ under the link “Study Blueprint and Charge Questions Electronic Copy.” This link provides electronic access to the Revised Analytical Plan, the “change pages” given to the Council in July 2003, and the detailed review charge questions.

The public meeting for the Council Special Panel, described above is planned for the Council to provide advice to the Agency on remaining charge questions related to its review of the Revised Analytical Plan for EPA's Second Prospective Analysis. These charge questions include the Agency's plans for valuation and its plans for addressing uncertainties associated with the analysis.

The public teleconference for the Council Special Panel is planned to prepare the Council for its public meeting and to discuss the Council Special Panel draft report “Interim Installment: Review of the Revised Analytical Plan for EPA's Second Prospective Analysis” posted on the SAB website as a draft report (consult the following page: http://www.epa.gov/science1/drrep.htm).

The purpose of the public meeting for the AQMS is for the AQMS to provide advice on the Agency's plans for air quality modeling.

The public teleconference for the AQMS, also described above, is planned to prepare the AQMS for its public meeting, which will focus on the Agency's plans for air quality modeling.

The purpose of the public teleconference for the HES is to discuss a draft report entitled “Advisory on Plans for Health Effects Analysis in the Analytical Plan for EPA's Second Prospective Analysis—Benefits and Costs of the Clean Air Act, 1990-2020,” developed during the HES public meeting on August 28-28, 2003. That meeting was previously announced in the Federal Register on July 30, 2003 (68 FR 44766-44767). The HES draft report will be posted on the SAB website (on the special page for Draft Reports at http://www.epa.gov/science1/drrep.htm) in advance of the meeting.

Agendas for the public meetings and teleconferences will be posted on the SAB website ten days before the dates of those events.

Procedures for Providing Public Comment

It is the policy of the EPA Science Advisory Board (SAB) Staff Office to accept written public comments of any length, and to accommodate oral public comments whenever possible. The EPA SAB Staff Office expects that public statements presented at its meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) identified above at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations: Individuals requiring special accommodation to access these meetings, should contact Dr. Nugent at least five business days prior to the meeting so that appropriate arrangements can be made.

Dated: September 30, 2003.
Vanessa T. Vu,
Director, EPA Science Advisory Board Staff Office.

[FR Doc. 03-25404 Filed 10-6-03; 8:45 am]

BILLING CODE 6560-50-P